ENVIRONMENTAL PROTECTION AGENCY

[FRL-9935-71-Region 8]

Administrative Agreement and Order on Consent for Post Removal Site Control Activities by Bona Fide Prospective Purchaser: Rocky Flats Industrial Park Superfund Site, Jefferson County, Colorado

AGENCY: Environmental Protection Agency (EPA).

ACTION: Notice of proposed agreement; request for public comment.

SUMMARY: In accordance with the requirements of sections 104, 106(a), 107, and 122 of the Comprehensive Environmental Response Compensation, and Liability Act of 1980, as amended (“CERCLA”), 42 U.S.C. 9604, 9606(a), 9607 and 9622, notice is hereby given of the proposed administrative settlement under section 107 and 122 of CERCLA, between the U.S. Environmental Protection Agency (“EPA”) and bona fide prospective purchaser Columbine Strategies LLC (“Settling Party”). The proposed Settlement Agreement requires the Settling Party to conduct work under EPA oversight in exchange for a covenant not to sue pursuant to sections 106 and 107(a) of CERCLA, 42 U.S.C. 9606 and 9607(a) for existing contamination at the Site. The Settling Party consents to and will not contest the authority of the United States to enter into this Agreement or to implement or enforce its terms.

The Settling Parties recognize that this Agreement has been negotiated in good faith and that this Agreement is entered into without the admission or adjudication of any issue of fact or law.

DATES: Comments must be submitted on or before November 23, 2015. For thirty (30) days following the date of publication of this notice, the Agency will receive written comments relating to the agreement. The Agency will consider all comments received and may modify or withdraw its consent to the agreement if comments received disclose facts or considerations that indicate that the agreement is inappropriate, improper, or inadequate.

ADDRESSES: The Agency's response to any comments, the proposed agreement and additional background information relating to the agreement are available for public inspection at the EPA Superfund Record Center, 1595 Wynkoop Denver, Colorado, by appointment.

FOR FURTHER INFORMATION CONTACT: Steven Moores, Enforcement Attorney, Legal Enforcement Program, Environmental Protection Agency-Region 8, Mail Code 8ENF-L, 1595 Wynkoop Street, Denver, Colorado 80202, (303) 312-6857. Comments and requests for a copy of the proposed agreement should be addressed to Sharon Abendschan, Enforcement Specialist, Environmental Protection Agency—Region 8, Mail Code 8ENF-RC, 1595 Wynkoop Street, Denver, Colorado 80202 and should reference the Rocky Flats Industrial Park Superfund Site, Jefferson County, Colorado.

Suzanne Bohan,
Assistant Regional Administrator, Office of Enforcement, Compliance and Environmental Justice, U.S. Environmental Protection Agency, Region VIII.

[FR Doc. 2015-26938 Filed 10-21-15; 8:45 am]

BILLING CODE 6560-50-P